SMALL BUSINESS ADMINISTRATION

[Declaration of Disaster #3390]

State of Texas

Travis County and the contiguous Counties of Bastrop, Blanco, Burnet, Caldwell, Hays, and Williamson in the State of Texas constitute a disaster area as a result of damages caused by severe storms, flooding, and tornadoes that occurred November 15 through 18, 2001. Applications for loans for physical damage as a result of this disaster may be filed until the close of business on March 18, 2002, and for economic injury until the close of business on October 17, 2002, at the address listed below or other locally announced locations:

U.S. Small Business Administration, Disaster Area 3 Office, 4400 Amon Carter Blvd., Suite 102, Ft. Worth, TX 76155.

The interest rates are:

| Percent
For Physical Damage:
Homeowners With Credit Available Elsewhere | 6.500
Homeowners Without Credit Available Elsewhere | 3.250
Businesses With Credit Available Elsewhere | 8.000
Businesses and Non-profit Organizations Without Credit Available Elsewhere | 4.000
Others (Including Non-profit Organizations) With Credit Available Elsewhere | 6.375
For Economic Injury: Businesses and Small Agricultural Cooperatives Without Credit Available Elsewhere | 4.000

The numbers assigned to this disaster are 339011 for physical damage and 9O1500 for economic injury.

(Catalog of Federal Domestic Assistance Program Nos. 59002 and 59008).
Dated: January 17, 2002.
Hector V. Barreto,
Administrator.

[FR Doc. 02-1895 Filed 1-24-02; 8:45 am]

BILLING CODE 8025-01-P